DEPARTMENT OF LABOR

Office of the Assistant Secretary for Administration and Management

Proposed Collection; Comment Request

ACTION: Notice.

SUMMARY: The Department of Labor (DOL or the Department), as part of its continuing effort to reduce paperwork and respondent burden, conducts a pre-clearance consultation program to provide the general public and Federal agencies an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements can be properly assessed. Currently, DOL is soliciting comments concerning the proposed extension of the Customer Satisfaction Surveys and Conference Evaluations Generic Clearance.

A copy of the proposed information collection request (ICR) can be obtained by contacting the individual listed below in the ADDRESSES section of this notice.

DATES: Written comments must be submitted to the office listed in the ADDRESSES section below on or before August 3, 2009.

ADDRESSES: Send comments to Darrin A. King, Departmental Clearance Officer, Office of the Assistant Secretary for Administration and Management, 200 Constitution Avenue, NW., Washington, DC 20210. Mr. King can be reached on 202-693-4129 (this is not a toll free number) or by e-mail at DOL_PRA_PUBLIC@dol.gov

SUPPLEMENTARY INFORMATION:

I. Background

The Department is requesting OMB approval for the continued use of a generic Solicitation for Grant Application (SGA) format for information collection requirements for SGAs that extend beyond what is collected on currently approved standard forms. OMB approval of this generic SGA form will assist the Department to carry out its responsibilities under the Paperwork Reduction Act by accurately accounting for the public burden associated with grant applications through the promotion of a common structure for reporting the information collection requirements contained in DOL's SGAs.

Periodically, DOL solicits applications for grants through issuing a SGA. To ensure that grants are awarded to the applicant best suited to perform the functions of the grant, applicants are generally required to submit a two-part application. The first part of DOL's grant applications consists of submitting the Standard Form 424 (SF-424), “Application for Federal Assistance.” The second part of a grant application usually requires a technical proposal demonstrating the applicant's capabilities in accordance with a statement of work and/or selection criteria.

The information collected in response to solicitations for grant applications has been and will be used by the Department of Labor for awarding grants to the applicants most suited for fulfilling the mission of the grant.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without change of a currently approved collection.

Agency: Office of the Assistant Secretary for Administration and Management.

Title: Generic Solicitation for Grant Applications.

OMB Number: 1225-0086 (formerly 1205-0458).

Agency Form Number: Not applicable.

Affected Public: Not-for-profit institutions and state, local or tribal governments.

Total Estimated Annual Respondents: 5,750.

Estimated Average Time per Response: 20 hours per application.

Total Estimated Annual Burden Hours: 115,000.

Total Estimated Burden Cost (excludes hourly wage costs): $0.

Comments submitted in response to this comment request will be summarized and/or included in the request for Office of Management and Budget approval of the information collection request; they will also become a matter of public record.

Signed at Washington, DC, this 27th day of May 2009.
Darrin A. King,
Departmental Clearance Officer, Office of the Assistant Secretary for Administration and Management.

[FR Doc. E9-12673 Filed 6-1-09; 8:45 am]

BILLING CODE 4510-23-P